DEPARTMENT OF TRANSPORTATION

Office of the Secretary of Transportation

[Docket No. 2011-0059]

Notice of Transportation Services' Transition From Paper to Electronic Fare Media

AGENCY: Office of the Secretary, DOT.

ACTION: Notice.

SUMMARY: The Office of Transportation Services (TRANServe) located in the U.S. Department of Transportation, Office of the Secretary of Transportation within the Office of the Assistant Secretary for Administration is adopting a new program distribution methodology. TRANServe is planning to shift to electronic fare media in particular areas, beginning in New York and parts of the National Capitol Region, where paper vouchers are not available for redemption through the Transit Authority. The shift allows for the most effective and efficient delivery mechanism for the qualified transportation fringe benefit in those areas. TRANServe provides services to Federal Government agencies for the qualified transportation fringe benefit. To date, TRANServe has distributed these fringe benefits via a paper voucher process.

DATES: TRANServe will consider all comments received on or before April 19, 2011.

ADDRESSES: You may submit comments by the following methods:

• Federal eRulemaking Portal: Go to (http://www.regulations.gov Web address) to submit or view comments and to view supporting and related materials available electronically.

• Postal Mail/Commercial Delivery: Please send one copy of your comment to Docket No. DOT-OST-2011-0059, DOT/TRANServe, 1200 New Jersey Ave., SE., Washington, DC 20590.

Reading Room (Public Terminal): You may read any comments that we receive on this docket in our reading room (Public Terminal). The reading room is located in Room W12-140 of the U.S. DOT, 1200 New Jersey Avenue, SW., Washington, DC. Normal reading room hours are 8 a.m. to 4:30 p.m. Monday through Friday, except holidays. To be sure someone is there to help you please call (202) 366-9826 or (202) 366-9317 before arriving.

Other Information: Additional information about TRANServe is available on the Internet at (http://transerve.dot.gov/index.html ).

FOR FURTHER INFORMATION CONTACT: Ms. Denise P. Wright, Business Office Manager, 1200 New Jersey Avenue SE., Washington, DC 20590.

SUPPLEMENTARY INFORMATION:

Background

Under the authority of 49 U.S.C. 327, Administrative Working Capital Fund and 26 U.S.C. 132(f)(3), Qualified Transportation Fringe, Cash Reimbursement, TRANServe conducts its Program operations as the service provider by distributing the qualified transportation fringe benefit. Since the enactment of Public Law 103-172, Federal Employees Clean Air Incentives Act, Executive Order 13150, Federal Workforce Transportation, and other enabling legislation, TRANServe has maintained its servicing operations for the distribution of transit benefits to Federal employees via a paper voucher process.

Since 2000, TRANServe has operated a highly sophisticated ordering/inventory/distribution program. TRANServe's program is supported by a complex network of activities, such as statistical forecasting for nationwide distribution, multi-million dollar contract awards, support arrangements for travel and distribution, and an elaborate array of financial analysis for Federal Agency billing. April 2000 served as the transaction baseline year for TRANServe, when significant and measurable transaction activity occurred that accounted for an estimated 800% increase in Federal Agency participant growth. Over time, many State and local transit authorities are transitioning or have transitioned to electronic fare media; thus, compelling the shift from a paper based system (vouchers) to an electronic fare media structure.

In addition to rising program costs related to inventory, travel, and infrastructure support, the shift to electronic fare media by State and local transit authorities require that TRANServe adopt a new distribution method from paper to electronic fare media, consistent with 26 U.S.C. 132(f)(3).

Public Comments: Persons wishing to offer written comments and suggestions concerning the activities of TRANServe's change in distribution operations should file comments in the Public Docket (Docket Number DOT-OST-2011-0059) at http://www.regulations.gov.

Marie Petrosino-Woolverton,
Director, Office of Financial Management & Transportation Services.

[FR Doc. 2011-7302 Filed 3-28-11; 8:45 am]

BILLING CODE P